DEPARTMENT OF TRANSPORTATION

Federal Aviation Administration

14 CFR Part 39

[Docket No. FAA-2006-26045; Directorate Identifier 2006-NM-145-AD; Amendment 39-14936; AD 2007-04-05]

RIN 2120-AA64

Airworthiness Directives; Airbus Model A300 Airplanes

AGENCY: Federal Aviation Administration (FAA), Department of Transportation (DOT).

ACTION: Final rule.

SUMMARY: The FAA is superseding an existing airworthiness directive (AD), which applies to certain Airbus Model A300 B2 and B4 series airplanes. That AD currently requires modifying the wiring of the autopilot pitch torque limiter switch. This new AD adds repetitive operational tests of the autopilot disconnection upon pitch override, and related investigative/corrective actions if necessary. This AD results from the determination that such operational tests are necessary following the modification. We are issuing this AD to prevent possible trim loss when the flightcrew tries to override the autopilot pitch control, which could result in uncontrolled flight of the airplane.

DATES: This AD becomes effective March 21, 2007.

The Director of the Federal Register approved the incorporation by reference of certain publications listed in the AD as of March 21, 2007.

On August 1, 2005 (70 FR 36833, June 27, 2005), the Director of the Federal Register approved the incorporation by reference of Airbus Service Bulletin A300-22-0117, dated September 7, 2004.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Thomas Stafford, Aerospace Engineer, International Branch, ANM-116, FAA, Transport Airplane Directorate, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2005-13-33, amendment 39-14170 (70 FR 36833, June 27, 2005). The existing AD applies to certain Airbus Model A300 B2 and B4 series airplanes. That NPRM was published in the Federal Register on October 12, 2006 (71 FR 60087). That NPRM proposed to continue to require modifying the wiring of the autopilot pitch torque limiter switch. That NPRM also proposed to require repetitive operational tests of the autopilot disconnection upon pitch override, and related investigative/corrective actions if necessary.

Comments

We provided the public the opportunity to participate in the development of this AD. We have considered the comments that have been received on the NPRM.

Request To Publish/Incorporate by Reference in the NPRM

The Modification and Replacement Parts Association (MARPA) states that, typically, ADs are based on service information originating with the type certificate holder or its suppliers. MARPA adds that manufacturer service documents are privately authored instruments generally having copyright protection against duplication and distribution. MARPA notes that when a service document is incorporated by reference into a public document, such as an AD, it loses its private, protected status and becomes a public document. MARPA adds that if a service document is used as a mandatory element of compliance, it should not simply be referenced, but should be incorporated into the regulatory document; by definition, public laws must be public, which means they cannot rely upon private writings. MARPA adds that incorporated by reference (IBR) service documents should be made available to the public by publication in the Docket Management System (DMS), keyed to the action that incorporates them. MARPA notes that the stated purpose of the incorporation by reference method is brevity, to keep from expanding the Federal Register needlessly by publishing documents already in the hands of the affected individuals; traditionally, “affected individuals” means aircraft owners and operators, who are generally provided service information by the manufacturer. MARPA adds that a new class of affected individuals has emerged, since the majority of aircraft maintenance is now performed by specialty shops instead of aircraft owners and operators. MARPA notes that this new class includes maintenance and repair organizations, component servicing and repair shops, parts purveyors and distributors, and organizations manufacturing or servicing alternatively certified parts under section 21.303 (“Replacement and modification parts”) of the Federal Aviation Regulations (14 CFR 21.303). Therefore, MARPA asks that the service documents deemed essential to the accomplishment of the NPRM be incorporated by reference into the regulatory instrument and published in the DMS prior to the release of the final rule.

We acknowledge MARPA's comment concerning IBR. The Office of the Federal Register (OFR) requires that documents that are necessary to accomplish the requirements of the AD be incorporated by reference during the final rule phase of rulemaking. This final rule incorporates by reference the document necessary for the accomplishment of the requirements mandated by this AD. Further, we point out that while documents that are incorporated by reference do become public information, they do not lose their copyright protection. For that reason, we advise the public to contact the manufacturer to obtain copies of the referenced service information.

In regard to the commenter's request to post service bulletins on the Department of Transportation's DMS, we are currently in the process of reviewing issues surrounding the posting of service bulletins on the DMS as part of an AD docket. Once we have thoroughly examined all aspects of this issue and have made a final determination, we will consider whether our current practice needs to be revised. No change to the final rule is necessary in response to this comment.

Request To State FAA Intent To Incorporate Certain Service Bulletin(s) by Reference in the NPRM

MARPA requests that, during the NPRM stage of AD rulemaking, the FAA state its intent to IBR any relevant service information. MARPA states that without such a statement in the NPRM, it is unclear whether the relevant service information will be incorporated by reference in the final rule.

The FAA does not concur with the commenter's request. When we reference certain service information in a proposed AD, the public can assume we intend to IBR that service information, as required by the Office of the Federal Register. No change to this final rule is necessary in regard to this request.

Conclusion

We have carefully reviewed the available data, including the comments that have been submitted, and determined that air safety and the public interest require adopting the AD as proposed.

Costs of Compliance

This AD affects about 29 airplanes of U.S. registry. The following table provides the estimated costs for U.S. operators to comply with this AD.

Estimated Costs
Action | Work hours | Average labor rate per hour | Parts | Cost per airplane | Fleet cost
Modification (Required by AD 2005-13-33) | Between 8 and 11 | $80 | Between $1,700 and $4,280 | Between $2,340 and $5,160 | Between $67,860 and $149,640.
Operational test (New Requirement) | 4 | 80 | $0 | $320, per test cycle | $9,280, per test cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14170 (70 FR 36833, June 27, 2005) and by adding the following new airworthiness directive (AD):

2007-04-05 Airbus: Amendment 39-14936. Docket No. FAA-2006-26045; Directorate Identifier 2006-NM-145-AD.

Effective Date

(a) This AD becomes effective March 21, 2007.

Affected ADs

(b) This AD supersedes AD 2005-13-33.

Applicability

(c) This AD applies to Airbus A300 airplanes, all certified models and all serial numbers, certificated in any category, except for:

(1) Airbus Model A300 B4-601, B4-603, B4-620, and B4-622 airplanes, Model A300 B4-605R and B4-622R airplanes, A300 F4-605R and F4-622R airplanes, and Model A300 C4-605R Variant F airplanes.

(2) Airbus Models A300 B4-220, A300 B4-203, and A300 B2-203 airplanes in forward facing crew cockpit certified configuration.

Unsafe Condition

(d) This AD results from the determination that repetitive operational tests are necessary following incorporation of the wiring modification required by AD 2005-13-33. We are issuing this AD to prevent possible trim loss when the flightcrew tries to override the autopilot pitch control, which could result in uncontrolled flight of the airplane.

Compliance

(e) You are responsible for having the actions required by this AD performed within the compliance times specified, unless the actions have already been done.

Restatement of Requirements of AD 2005-13-33

Modification

(f) Within 20 months after August 1, 2005 (the effective date of AD 2005-13-33), modify the wiring of the autopilot pitch torque limiter switch, by doing all of the applicable actions specified in the Accomplishment Instructions of Airbus Service Bulletin A300-22-0117, dated September 7, 2004; Revision 01, dated April 20, 2005; or Revision 02, dated September 14, 2005. After the effective date of this AD, only Revision 02 may be used.

New Requirements of This AD

Repetitive Operational Tests

(g) At the applicable time specified in paragraph (g)(1) or (g)(2) of this AD: Do an operational test of the autopilot disconnection upon pitch override, and do all applicable related investigative and corrective actions. Do the actions in accordance with the Accomplishment Instructions of Airbus Service Bulletin A300-22-0118, excluding Appendix 01, dated May 18, 2005; except that this AD does not require a report of the inspection results. Do all applicable related investigative and corrective actions before further flight. Repeat the test thereafter at intervals not to exceed 2,000 flight hours.

(1) For airplanes modified before the effective date of this AD in accordance with Airbus Service Bulletin A300-22-0117, dated September 7, 2004: Do the initial test within 2,000 flight hours after the effective date of this AD.

(2) For airplanes modified in accordance with Airbus Service Bulletin A300-22-0117, Revision 01, dated April 20, 2005; or Revision 02, dated September 14, 2005: Do the initial test within 2,000 flight hours after the modification required by paragraph (f) of this AD, or within 2,000 flight hours after the effective date of this AD, whichever occurs later.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2005-13-33 are not approved as AMOCs with this AD.

Related Information

(i) French airworthiness directive F-2005-107, dated July 6, 2005, also addresses the subject of this AD.

Material Incorporated by Reference

(j) You must use the service information identified in Table 1 of this AD to perform the actions that are required by this AD, unless the AD specifies otherwise.

Table 1.—All Material Incorporated by Reference
Airbus service bulletin | Revision level | Date
A300-22-0117 | Original | September 7, 2004.
A300-22-0117 | 01 | April 20, 2005.
A300-22-0117 | 02 | September 14, 2005.
A300-22-0118, excluding Appendix 01 | Original | May 18, 2005.

(1) The Director of the Federal Register approved the incorporation by reference of the documents identified in Table 2 of this AD in accordance with 5 U.S.C. 552(a) and 1 CFR part 51.

Table 2.—New Material Incorporated by Reference
Airbus service bulletin | Revision level | Date
A300-22-0117 | 01 | April 20, 2005.
A300-22-0117 | 02 | September 14, 2005.
A300-22-0118, excluding Appendix 01 | Original | May 18, 2005.

(2) On August 1, 2005 (70 FR 36833, June 27, 2005), the Director of the Federal Register approved the incorporation by reference of Airbus Service Bulletin A300-22-0117, dated September 7, 2004.

(3) Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on February 5, 2007.
Ali Bahrami,
Manager, Transport Airplane Directorate, Aircraft Certification Service.

[FR Doc. E7-2412 Filed 2-13-07; 8:45 am]

BILLING CODE 4910-13-P